DEPARTMENT OF ENERGY

International Energy Agency Meetings

AGENCY: Department of Energy.

ACTION: Notice of meetings.

SUMMARY: The Industry Advisory Board (IAB) to the International Energy Agency (IEA) will meet on March 22, 2011, at the headquarters of the IEA in Paris, France, in connection with a joint meeting of the IEA's Standing Group on Emergency Questions (SEQ) and the IEA's Standing Group on the Oil Market (SOM) on March 22; and on March 23 and March 24 in connection with a meeting of the SEQ on March 23 and March 24.

DATES: March 22-24, 2011.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on March 22, 2011, beginning at 9 a.m.; and on March 23 commencing at 9:30 a.m., and continuing on March 24, 2011, at 9:30 a.m. The purpose of this notice is to permit attendance by representatives of U.S. company members of the IAB at a joint meeting of the IEA's Standing Group on Emergency Questions (SEQ) and the IEA's Standing Group on the Oil Market (SOM) on March 22, which is scheduled to be held at the headquarters of the IEA commencing at 9 a.m.; and at a meeting of the SEQ on March 23, commencing at 9:30 a.m. and continuing on March 24, 2011, at 9:30 a.m.. The IAB will also hold a preparatory meeting among company representatives at the same location at 8:30 a.m. on March 23. The agenda for this preparatory meeting is to review the agenda for the SEQ meeting, to be held on March 23-24.

The agenda of the joint SEQ/SOM meeting on March 22 is under the control of the SEQ and the SOM. It is expected that the SEQ and the SOM will adopt the following agenda:

1. Adoption of the Agenda

2. Approval of the Summary Record of the November 2010 Joint Session

3. Reports on Recent Oil Market and Policy Developments in IEA Countries

4. The Program of Work

—Priority Setting Exercise 2013-2014

5. The Current Oil Market Situation

6. Update on the Gas Market

7. Reports on Recent IEA-IEF-OPEC Cooperation

—Workshop: How the Physical and Financial Markets for Energy Interact (London, November 2010)

—Forum: Energy Market Regulation (London, November 2010)

—Symposium on Energy Outlooks (Riyadh, January 2011)

8. India's Refining Industry: Towards a Regional Export Hub?

9. Workshop Scene Setter

—Commodity Derivatives Market and Recent Regulatory Trends

10. Other Business

—Tentative Schedule of Next Meetings for 2011:

—June 28: Joint SEQ/SOM Meeting on the Medium Term Oil and Gas Markets Review

—June 29-30: 133rd Meeting of the SEQ

—November 15-17: SOM and SEQ Meetings

11. Workshop: The Changing Structure of Energy Markets

—Session 1: The Impact of Financial Market Participants on Energy Futures Markets

1. How do the investment strategies of financial market participants affect the structure and functioning of energy futures markets?

2. How can we explain co-movement between commodities and other asset classes?

3. How can we explain recent price volatility in oil markets—what data would help reduce uncertainty?

4. How can we explain the changing relationship between financial and physical oil markets?

—Session 2: The Impact of New Regulations on Energy Markets

1. What impact will new regulations have on the structure and functioning of the futures market?

2. Does more regulation mean more efficiency?

3. Will a shift to more exchange-traded contracts affect overall market operation?

4. What are the shortcomings of the current and proposed regulatory frameworks?

5. What are the effects of new regulations on end-users in terms of hedging and financing?

The agenda of the SEQ meeting on March 23 is under the control of the SEQ. It is expected that the SEQ will adopt the following agenda:

1. Adoption of the Agenda

2. Approval of the Summary Record of the 131st Meeting

3. Status of Compliance with IEP Stockholding Commitments

4. Emergency Response Review Program

—Schedule of Emergency Response Reviews

—Proposal for Mid-term Reviews

—Emergency Response Review of Poland

—Emergency Response of Spain

—Emergency Response of the Slovak Republic

—Questionnaire Response of Australia

—Questionnaire Response of Korea

—Questionnaire Response of Chile

5. Emergency Policy for Natural Gas

—Main Findings on the Questionnaire on Gas Security

6. Emergency Response Exercises

—Evaluation of ERE5

7. Cooperation with Non-Member Countries During Oil Supply Disruptions

—Approval Written Procedure Draft Governing Board Document

—Report on Discussion at Governing Board February 24, 2011

8. Emergency Response Measures

—Authorization of Budget for Emergency Response Actions

9. Energy Security Model

—Presentation of Draft Model

10. Policy and Other Developments in Member Countries

—Italy

—Sweden

—United Kingdom

—United States

11. Report from the Industry Advisory Board

12. Activities with International Organizations and Non-Member Countries

—APEC/ASEAN Emergency Response Exercise

—Thailand: Emergency Response Assessment

—Report on Workshops in China

—Chile

—Indonesia

—India

13. Documents for Information

—Emergency Reserve Situation of IEA Member Countries on January 1, 2011

—Base Period Final Consumption: 1Q 2010-4Q 2010

—Updated Emergency Contacts List

13. Other Business

—Tentative Schedule of Next Meetings for 2011:

—June 28: Joint SEQ/SOM Meeting on the Medium Term Oil and Gas Markets Review

—June 29-30: 133rd Meeting of the SEQ

—November 15-17: SOM and SEQ Meetings

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 7, 2011.
Diana D. Clark,
Assistant General Counsel for International and National Security Programs.

[FR Doc. 2011-5785 Filed 3-14-11; 8:45 am]

BILLING CODE 6450-01-P